DEPARTMENT OF COMMERCE

Foreign-Trade Zones Board

[B-50-2023]

Foreign-Trade Zone (FTZ) 45; Authorization of Production Activity; Epson Portland, Inc.; (Inkjet Ink Cartridges and Bottles); Hillsboro, Oregon

On September 18, 2023, Epson Portland, Inc. submitted a notification of proposed production activity to the FTZ Board for its facility within Subzone 45F, in Hillsboro, Oregon.

The notification was processed in accordance with the regulations of the FTZ Board (15 CFR part 400), including notice in the Federal Register inviting public comment (88 FR 65365, September 22, 2023). On January 16, 2024, the applicant was notified of the FTZ Board's decision that no further review of the activity is warranted at this time. The production activity described in the notification was authorized, subject to the FTZ Act and the FTZ Board's regulations, including section 400.14.

Dated: January 16, 2024.
Elizabeth Whiteman,
Executive Secretary.

[FR Doc. 2024-00984 Filed 1-18-24; 8:45 am]

BILLING CODE 3510-DS-P